DEPARTMENT OF HEALTH AND HUMAN SERVICES

Notice of Meeting of the Advisory Committee on Blood Safety and Availability

AGENCY: Office of the Secretary.

ACTION: Notice of meeting.

SUMMARY: The Advisory Committee on Blood Safety and Availability will meet on Thursday, August 26, 2004 and Friday, August 27, 2004 from 8 a.m. to 5 p.m. The meeting will take place at the Hyatt Regency Hotel on Capitol Hill, 400 New Jersey Ave., NW., Washington, DC 20001. Please note this is a change in location from the previous two meetings. The meeting will be entirely open to the public.

The purpose of this meeting will be to review the progress of prior recommendations and solicit additional comments from the Committee regarding recommendations made over the past year. Specifically the Committee will be asked to review the safety and availability of platelet products since the introduction of the voluntary 100% quality control for bacterial contamination. The Committee may also review the progress made by the American Association of Blood Banks Task Force on Bacterial Contamination to identify potential studies to standardize, validate, and determine the predictive value of bacterial testing with the intent to extend the dating of platelet products from five to seven days and the possible pre-storage pooling of whole blood derived platelets; issues related to hepatitis B testing; and issues related to blood and blood products, including plasma-derived therapeutics and their recombinant analogs. Individuals interested in this meeting are urged to refer to the Committee's Web page at www.dhhs.gov/bloodsafety for further information prior to the meeting.

Public comment will be solicited at the meeting. Public comment will be limited to five minutes per speaker. Those who wish to have printed material distributed to Advisory Committee members should submit thirty (30) copies to the Acting Executive Secretary prior to close of business August 20, 2004. Those who wish to utilize electronic data projection in their presentation to the Committee must submit their material to the Executive Secretary prior to close of business August 20, 2004. In addition, anyone planning to comment is encouraged to contact the Executive Secretary at her/his earliest convenience.

FOR FURTHER INFORMATION CONTACT: Jerry A. Holmberg, PhD, Executive Secretary, Advisory Committee on Blood Safety and Availability, Department of Health and Human Services, Office of Public Health and Science, 1101 Wootton Parkway, Room 275, Rockville, MD 20852, (301) 443-2331, FAX (301) 443-4361, e-mail: jholmberg@osophs.dhhs.gov.

Dated: July 29, 2004.
Jerry A. Holmberg,
Executive Secretary, Advisory Committee on Blood Safety and Availability.

[FR Doc. 04-17697 Filed 8-3-04; 8:45 am]

BILLING CODE 4150-28-P